DEPARTMENT OF TRANSPORTATION

Federal Aviation Administration

Twenty First Meeting: RTCA Special Committee 216, Aeronautical Systems Security (Joint Meeting With EUROCAE WG-72)

AGENCY: Federal Aviation Administration (FAA), U.S. Department of Transportation (DOT).

ACTION: Meeting Notice of RTCA Special Committee 216, Aeronautical Systems Security (Joint Meeting with EUROCAE WG-72).

SUMMARY: The FAA is issuing this notice to advise the public of the twenty first meeting of RTCA Special Committee 216, Aeronautical Systems Security (Joint Meeting with EUROCAE WG-72).

DATES: The meeting will be held May 13-17, 2013, from 9:00 a.m.-5:00 p.m. but ending at 3:00 p.m. on the last day.

ADDRESSES: The meeting will be held at EASA, Ottoplatz 1, 50679 Köln (Cologne), Germany.

FOR FURTHER INFORMATION CONTACT: Contact Cyrille Rosay at +49-221-899 90 4045 or cyrille.rosay@easa.europa.eu. Additionally, you may contact the RTCA Secretariat, 1150 18th Street NW., Suite 910, Washington, DC 20036, or by telephone at (202) 833-9339, fax at (202) 833-9434, or Web site http://www.rtca.org for directions.

SUPPLEMENTARY INFORMATION: Pursuant to section 10(a) (2) of the Federal Advisory Committee Act (Pub. L. 92-463, 5 U.S.C., App.), notice is hereby given for a meeting of Special Committee 216. The agenda will include the following:

Monday, May 13, 2013

• Introductions

• High-level document status

• Review level of maturity of contributions to document drafts

• Discuss linkages between the two documents

• Review proposed changes to glossary

• Subgroup breakouts (SG2 and SG4)

○ Discuss document status in further detail

○ Develop plan for subgroup discussions

○ Identify remaining tasks

Tuesday-Thursday, May 14-May 16

• Subgroup breakouts

○ Afternoon may consist of work team breakouts to write needed material

Friday, May 17

• Reconvene in Subgroup breakouts

○ Discuss document status and agree on directions for documents

○ Prepare reports for plenary

• Joint Plenary

○ Subgroup status reports

○ Review schedule and decide on readiness of documents for Final Review and Comment

○ Identify next steps

• 3:00 p.m. (1500) Wrap-Up, Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 4, 2013.
Paige Williams,
Management Analyst, NextGen, Business Operations Group, Federal Aviation Administration.

[FR Doc. 2013-08539 Filed 4-11-13; 8:45 am]

BILLING CODE 4910-13-P